INTERNATIONAL TRADE COMMISSION

[Investigation No. 337-TA-1131]

Certain Wireless Mesh Networking Products and Related Components Thereof; Institution of Investigation

AGENCY: U.S. International Trade Commission.

ACTION: Notice.

SUMMARY: Notice is hereby given that a complaint was filed with the U.S. International Trade Commission on August 3, 2018, under section 337 of the Tariff Act of 1930, as amended, on behalf of SIPCO LLC of Ashburn, Virginia. A supplement was filed on August 16, 2018. The complaint alleges violations of section 337 based upon the importation into the United States, the sale for importation, and the sale within the United States after importation of certain wireless mesh networking products and related components thereof by reason of infringement of certain claims of U.S. Patent No. 6,914,893 (“the '893 patent”); U.S. Patent No. 7,103,511 (“the '511 patent”); U.S. Patent No. 8,964,708 (“the '708 patent”); and U.S. Patent No. 9,439,126 (“the '126 patent”). The complaint further alleges that an industry in the United States exists as required by the applicable Federal Statute.

The complainant requests that the Commission institute an investigation and, after the investigation, issue a limited exclusion order and cease and desist orders.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Katherine Hiner, The Office of Docket Services, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2018).

Scope of Investigation: Having considered the complaint, the U.S. International Trade Commission, on September 4, 2018, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-4, 10, and 19-25 of the '893 patent; claims 1-4, 8-11, 33-35, 44-47, and 56-58 of the '511 patent; claims 1, 2, 5, 8-10, and 16-20 of the '708 patent; and claims 1-12 of the '126 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “wireless mesh networking gateways, input/output cards, remote devices, transceivers, network managers, system-on-chip nodes, printed circuit boards, circuit components, batteries, and field communicator devices”;

(3) For the purpose of the investigation so instituted, the following are hereby named as parties upon which this notice of investigation shall be served:

(a) The complainant is: SIPCO LLC, 20638 Duxbury Terrace, Ashburn, Virginia 20147.

(b) The respondents are the following entities alleged to be in violation of section 337, and are the parties upon which the complaint is to be served:

Emerson Electric Co., 8000 W Florissant Ave., St. Louis, MO 63136

Emerson Process Management LLLP, 8000 Norman Center Drive, Suite 1200, Bloomington, MN 55437

Emerson Process Management Asia Pacific Private Limited, 1 Pandan Crescent, Singapore, 128461, Singapore

Emerson Process Management Manufacturing (M) Sdn. Bhd., Lot 13111-Mukim Labu, Kawasan, Perindustrian Nilai, Nilai, Negeri Sembilan, 71807, Malaysia

Fisher-Rosemount Systems, Inc., 1100 W Louis Henna Blvd., Bldg. 1, Round Rock, TX 78681

Rosemount Inc., 6021 Innovation Blvd., Shakopee, MN 55379

Analog Devices, Inc., One Technology Way, Norwood, MA 02062

Linear Technology LLC, 1630 McCarthy Blvd., Milpitas, CA 95035

Dust Networks, Inc., 32990 Alvarado Niles Road, Suite 910, Union City, California 94587

Tadiran Batteries Inc., 2001 Marcus Avenue, Suite 125E, Lake Success, NY 11040

Tadiran Batteries Ltd., 34 Itzhak Rabin Blvd., Kiryat Ekron, 7692000, Israel

(4) For the investigation so instituted, the Chief Administrative Law Judge, U.S. International Trade Commission, shall designate the presiding Administrative Law Judge.

The Office of Unfair Import Investigations will not be named as a party to this investigation.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: September 5, 2018.
Lisa R. Barton,
Secretary to the Commission.

[FR Doc. 2018-19587 Filed 9-7-18; 8:45 am]

BILLING CODE 7020-02-P